DEPARTMENT OF TRANSPORATION

[DOCKET No.: DOT-OST-2024-0011]

Guidance for the Acceptance and Use of Geomatic Information Obtained From a Non-Federal Entity

AGENCY: Office of the Secretary of Transportation, Department of Transportation.

SUMMARY: The U.S. Department of Transportation (DOT) is issuing guidance for the acceptance and use of geomatic information obtained from a non-Federal entity. The Infrastructure Investment and Jobs Act, H.R. 3684, Title I Federal-Aid Highways, Subtitle C, directs the Secretary to develop guidance for the acceptance and use of geomatic information obtained from a non-federal entity. DOT's Geospatial Management Office (GMO) recognizes the need for a geomatic information standard to meet this requirement.

DATES: Comments are due by March 18, 2024.

ADDRESSES: You may send comments, identified by DOT-OST-2024-0011, by any of the following methods:

• Follow the instructions for sending comments on the https://www.regulations.gov/. Include DOT-OST-2024-0011 in the subject line of the message.

• Mail: Docket Management Facility; U.S. Department of Transportation (DOT), 1200 New Jersey Avenue SE, West Building, Room W12-140, Washington, DC 20590-0001.

• Hand Delivery/Courier: Room W12-140 on the ground level of DOT, West Building, 1200 New Jersey Avenue SE, Washington, DC, between 9:00 a.m. and 5:00 p.m., Monday through Friday, except Federal holidays.

Instructions: All submissions received must include the agency name and docket number for this notice. All comments received will be posted without change to https://www.regulations.gov/, including any personal information provided.

Docket: For access to the docket to read background documents or comments received, go to www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on DOT-OST-2024-0011.” The Docket Clerk will date stamp the postcard prior to returning it to you via the U.S. mail. Please note that due to possible delays in the delivery of U.S. mail to federal offices in Washington, DC, we recommend that persons consider an alternative method (internet, or professional delivery service) of submitting comments to the docket and ensuring their timely receipt at DOT.

FOR FURTHER INFORMATION CONTACT: Amy Nelson, Chief Geospatial Information Officer, OST, Department of Transportation at 202-366-9201 or by email at .

For specific inquiries on the Department's administration mechanisms for seeking correction of information covered by these guidelines, or for specific inquiries about the Department's statistical guidelines, please refer to the contacts listed in the guidelines.

SUPPLEMENTARY INFORMATION: Pursuant to The Infrastructure Investment and Jobs Act (Pub. L. 117-58), H.R. 3684, Title I Federal-Aid Highways, Subtitle C which directs the Secretary to develop guidance for the acceptance and use of geomatic information obtained from a non-federal entity, the Department has identified a standard to serve as guidance. The Project Development and Design Manual for Federal Lands Highways, maintained by the Western Federal Lands Highway Division, provides policies and guidance for project development and design activities related to Federal Lands Highways and can serve as guidance for similar projects. The manual was created in 1988 and is updated regularly. Additionally, it contains background and reference material, including specific information about techniques, theory, and specifications.

DOT will adopt Chapter Five of the Project Development and Design Manual for Federal Lands Highways (https://flh.fhwa.dot.gov/resources/design/pddm/Chapter_05.pdf) as the standard for the acceptance and use of geomatic information obtained from a non-federal entity. In instances where the manual's guidance does not apply to geomatic information obtained by a DOT Operating Administration (OA), the OA will have the flexibility to develop and maintain modal-specific geomatic information guidance.

Examples of existing modal-specific geomatic information guidance include:

(1) FAA Advisory Circulars which contain detailed requirements and standards for airport surveys and flight procedures. (examples: AC16B, AC17C, AC18B)

(2) PHMSA's Pipeline Operator Standards Manual (https://www.npms.phmsa.dot.gov/Documents/Operator_Standards.pdf), which defines positional accuracy requirements for gas transmission and hazardous liquid pipelines.

DOT is monitoring the development of candidates for geomatic guidance and will assess the need for updates to this policy statement.

The updated guidelines are available on the Department's website at https://flh.fhwa.dot.gov/resources/design/pddm/Chapter_05.pdf and in the docket. The Department seeks comment on the guidelines and the proposed changes.

Issued in Washington, DC.
Cordell Schachter,
Chief Information Officer, Department of Transportation.

[FR Doc. 2024-02794 Filed 2-15-24; 8:45 am]

BILLING CODE 4910-9X-P